DEPARTMENT OF ENERGY

Federal Energy Regulatory Commission

[Project No. 516-459]

South Carolina Electric and Gas Company; Saluda Hydroelectric Project; Notice of Teleconference With the National Marine Fisheries Service Regarding Preparation of a Biological Assessment for the Saluda Project

May 20, 2010.

On June 16, 2010, there will be a teleconference concerning the above referenced proceeding, initiated from Federal Energy Regulatory Commission (FERC) Headquarters, commencing at 2 p.m. (Eastern Standard Time [EST]) and concluding by 4 p.m. EST.

The purpose of the meeting is to gain a better understanding of why and what is being requested by the National Marine Fisheries Service (NMFS) regarding their request for FERC to prepare a biological assessment for shortnose sturgeon for the Saluda Hydroelectric Project. The South Carolina Electric and Gas Company will also participate in the teleconference.

All local, state, and federal agencies, Indian tribes, and other interested parties are invited to listen by telephone. The FERC contact for the Saluda Hydroelectric Project is Lee Emery. Please call Lee Emery at (202) 502-8379 by 4 p.m. EST, June 11, 2010, or by e-mail at lee.emery@ferc.gov, to receive specific instructions on how to participate in the teleconference.

Kimberly D. Bose,
Secretary.

[FR Doc. 2010-12856 Filed 5-27-10; 8:45 am]

BILLING CODE 6717-01-P